FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANS # | ACQUIRING | ACQUIRED | ENTITIES
TRANSACTIONS GRANTED EARLY TERMINATION—07/23/2007
20071756 | Green Equity Investors, V, L.P. | The Container Store, Inc. | The Container Store, Inc.
20071760 | Frozen, LLC | Reddy Ice Holdings, Inc. | Reddy Ice Holdings, Inc.
TRANSACTIONS GRANTED EARLY TERMINATIONS—07/24/2007
20071434 | Warburg Pincus Private Equity IX, L.P | Marshall & Ilsley Corporation | Metavante Holdings Company.
20071650 | E-Ton Solar Tech Co., Ltd. | George Fiegl | Adema Technologies, Inc.
20071703 | Permira IV L.P.2 | Valentino Fashion Group S.p.A. | Valentino Fashion Group S.p.A.
20071710 | Harbinger Capital Partners Special Situations Offshore Fund | Motient Corporation | Motient Corporation.
20071713 | SCR-Sibelco N.V. | Peak Lime, Inc. | Peak Lime, Inc.
20071723 | Metalmark Capital Partners, L.P. | Behrman Capital III L.P. | Hunter Defense Technologies, Inc.
20071740 | Avista Capital Partners, L.P. | Citigroup Inc. | IWCO Direct Holdings Inc.
20071750 | Allied Capital Corporation | David Kiger | Worldwide Express Holdings, LLC.
20071761 | Blue Point Capital Partners II, L.P. | Morgan 2001 Revocable Trust | WDC Exploration & Wells.
20071767 | ValueClick, Inc. | Mezi Media, Inc. | Mezi Media, Inc.
TRANSACTIONS GRANTED EARLY TERMINATION—07/25/2007
20071708 | Diamond Castle Partners IV, L.P. | Managed Purchasing LLC | Chicago Healthcare Corp. Managed Purchasing LLC.
20071712 | Murata Manufacturing Co., Ltd. | C&D Technologies, Inc. | C&D Dynamo Corporation. C&D Technologies (CPS) LLC. C&D Technologies de Mexico S.A. de C.V. Datel Holding Corporation. Dynamo Acquisition Corporation. NCL Holdings Limited.
20071739 | Tanfield Group plc | Allen T. Havlin | Snorkel Holdings LLC.
20071757 | Linn Energy, LLC | Dominion Resources, Inc. | DEPI Subco. DEPI Survivor LP. Dominion Exploration MidContinent, Inc. Dominion Gas Marketing, Inc DOTEPI Subco. DOTEPI Survivor LP.
TRANSACTIONS GRANTED EARLY TERMINATION—07/26/2007
20071702 | The Goldman Sachs Group, Inc. | NF Acquisition Corporation | NF Acquisition Corporation.
20071716 | United Technologies Corporation | John W. Ward | Edward B. Ward & Company.
20071724 | Fidelity National Information Services, Inc | eFunds Corporation | eFunds Corporation.
20071741 | L'Oreal S.A. | Maly's of California, Inc. | Maly's of Utah, LLC.
20071746 | Serafina Holdings Limited | Intelsat Holdings, Ltd. | Intelsat Holdings, Ltd.
20071774 | Apax Europe VI-A, L.P. | ALM Media Group Holdings, Inc. | ALM Media Group Holdings, Inc.
20071781 | F&H Acquisition Corp. | Champps Entertainment, Inc. | Champps Entertainment, Inc.
20071787 | Sterling Group Partners II, L.P. | Intergrated Service Company LLC | Integrated Service Company LLC.
20071790 | Fort Chicago Energy Partners L.P | Countryside Power Income | Countryside Power Income Fund.
20071794 | Coventry Health Care, Inc. | Dr. Steven M. Scott and Rebecca J. Scott | Florida Health Plan Administrators, LLC.
20071795 | Pearls Invest S.a.r.l. | AlpInvest Partners Direct Investments 2003 cv | Taminco N.V.
20071796 | Intel Corporation | Nancy Knowlton and David Martin | SMART Technologies Inc.
20071833 | Ulysses Luxembourg S.a.r.l. | Univar N.V. | Univar N.V.
TRANSACTIONS GRANTED EARLY TERMINATION—07/27/2007
20071737 | Promontoria Europe Investments VI LDC | Toro US Newco Corp. | Toro US Newco Corp.
20071751 | General Atlantic Partners (Bermuda), L.P | Promontoria Europe Investments VI LDC | Promontoria Europe Investments XI LDC.
20071779 | SunGard Capital Corp | VeriCenter, Inc. | VeriCenter, Inc.
20071818 | Citigroup, Inc. | Big Red, Inc. | Big Red, Inc.
20071819 | American Express Company | Ameriprise Financial, Inc. | AMEX Assurance Company.
TRANSACTIONS GRANTED EARLY TERMINATION—07/30/2007
20071653 | Lincolnshire Equity Fund III, L.P. | Mr. Roger Chapman | Nile Chapman Construction, Inc. RN Industries, Inc. RN Industries Trucking, Inc. Timberline Machinery.
20071773 | CyberSource Corporation | Authorize.Net Holdings, Inc. | Authorize.Net Holdings, Inc.
20071817 | Con-way Inc. | Transportation Resources, Inc. | Transportation Resources, Inc.
TRANSACTIONS GRANTED EARLY TERMINATION—07/31/2007
20071788 | United Group Limited | Steven C. Kletjian | UNICCO Service Company.
20071803 | BH Hotels Holdco LLC | Hilton Hotels Corporation | Hilton Hotels Corporation.
20071808 | MidOcean Partners III, L.P. | Bushnell Inc. | Bushnell Inc.
20071829 | Hornbeck Offshore Services, Inc. | Nabors Industries, Ltd. | Nabors Industries Ltd.
TRANSACTIONS GRANTED EARLY TERMINATION—08/01/2007
20071772 | Thomas Cressey Fund VIII, LP | SKM Equity Fund III, L.P. | Advanced Homecare Holdings, Inc.
20071782 | Citizens Communications Company | ABRY Partners IV, L.P. | Evans Telephone Holdings Inc.
20071822 | The Goldman Sachs Group, Inc | Picis, Inc. | Picis, Inc.
20071823 | Picis, Inc. | Francisco Partners, L.P. | Lynx Medical Systems Holding Corp.
TRANSACTIONS GRANTED EARLY TERMINATION—08/03/2007
20071488 | Spohn Cement GmbH | Hanson PLC | Hanson PLC.
20071727 | Gilbert Global Equity Partners, L.P | Crown Holdings, Inc. | CO2LD, LLC. Crown Biofuels, LLC. Crown Iron Works Company. Europa Crown Management Ltd. Wuhan Crown Friendship.
20071830 | JH Investment Partners, L.P. | Cortec Group Fund III, L.P. | High Response Holdings, Inc.
20071831 | Consolidated Communications Holdings, Inc | North Pittsburgh Systems, Inc. | North Pittsburgh Systems, Inc.
20071840 | VeraSun Energy Corporation | ASAlliance Biofuels, LLC | ASA OPCO Holding, LLC.
20071845 | Warner Music Group, Corp. | Barry Diller | Front Line Management Group, Inc.
20071846 | Warner Music Group, Corp. | Liberty Media Corporation | Front Line Management Group, Inc.
20071849 | Energizer Holdings, Inc | Playtex Products, Inc. | Playtex Products, Inc.
20071875 | Maple Tree Holdings, L.P. | Cecil Y. Ray Jr. | The Rigg Group, Inc.
20071876 | Rosa Anna Magno Garavoglia | Sammy Roy Hagar | Cabo Wabo, LLC. Sociedad de Responsabilidad Limitada de Capital Variable.
20071877 | V.F. Corporation | Seven For All Mankind, LLC | Seven For All Mankind, LLC.
20071878 | Unicorn Investment Bank B.S.C. (c) | Todd D and Eleanor T. Yun | Victron Inc.
TRANSACTIONS GRANTED EARLY TERMINATION—08/06/2007
20071800 | Accenture Ltd. | Michael L. George | George Group Consulting Services, L.P. George Group Incorporated.
20071869 | Manpower Inc. | The Greenwood Group, Inc. | The Greenwood Group, Inc.
20071885 | Dry Creek Corporation | Fortune Brands | Bean Wine Estates, Inc. Global Spirits & Wine, Inc. Peak Wines International, Inc. William Hill Napa, Inc.
TRANSACTIONS GRANTED EARLY TERMINATION—08/07/2007
20071786 | Citigroup Inc. | Automated Trading Desk, Inc. | Automated Trading Desk, Inc.
20071805 | Google Inc. | Postini, Inc. | Postini, Inc.
20071859 | Allied Capital Corporation | Ferndale Pharma Group, Inc. | Ferndale Pharma Group, Inc.
TRANSACTIONS GRANTED EARLY TERMINATION—08/08/2007
20071754 | Educational Testing Service | 2003 TIL Settlement | Prometric Holdings LLC
20071776 | Carlyle Europe Partners II, L.P. | Zodiac S.A. | Debes und Wunder GmbH. Marine Holding US Corp. Zodiac European Pools France SAS. Zodiac Group Australia. Zodiac Hurricane Tech Canada. Zodiac International S.A. Zodiac Kern GmbH.
20071821 | Court Square Capital Partners II, L.P | Platinum Equity Capital Partners, L.P | CHR Holding Corporation.
20071839 | Palladium Equity Partners III, L.P | The Thaxton Group, Inc. | Allied Business Systems, LLC Covington Credit, Inc. Covington Credit of Alabama, Inc. Covington Credit of Georgia, Inc. Covington Credit of Texas, Inc. Quick Credit Corporation. Southern Finance of South Carolina, Inc. Southern Finance of Tennessee, Inc. Southern Management Corporation. Thaxton Investment Corporation.
20071851 | RJO Investor Corp. | Iowa Grain Company | Iowa Grain Company.
TRANSACTIONS GRANTED EARLY TERMINATION—08/09/2007
20071759 | M J W Ashley | Everlast Worldwide, Inc. | Everlast Worldwide, Inc.
20071783 | LS Power Equity Partners, L.P. | TransAlta Corporation | TransAlta Corporation.
20071784 | LS Power Equity Partners II, L.P. | TransAlta Corporation | TransAlta Corporation.
20071785 | Luminum Energy Partners QP, L.P | TransAlta Corporation | TransAlta Corporation.
20071820 | New Mountain Partners III, L.P. | Charterhouse Equity Partners III, L.P | Oakleaf Global Holdings, Inc.
20071827 | JumpTV Inc. | XOS Technologies, Inc. | XOS Technologies, Inc.
20071870 | Blackstone Capital Partners V, L.P | DJO Incorporated | DJO Incorporated.
TRANSACTIONS GRANTED EARLY TERMINATION—08/10/2007
20071752 | Littlejohn Fund III, L.P. | Hancock Park Capital II, L.P. | Synchronous Aerospace Group.
20071762 | Maple Hill Holding Company | Melvin R. Berlin | Berlin Packaging L.L.C.
20071765 | TPG Partners V, L.P. | Connell Limited Partnership | Wabash Alloys, L.L.C.
20071793 | Carlyle Partners IV Telecommunications, L.P | ARINC Incorporated | ARINC Incorporated.
TRANSACTIONS GRANTED EARLY TERMINATION—08/13/2007
20071778 | The Finish Line, Inc. | Genesco Inc. | Genesco Inc.
20071797 | S.A.C. Capital International, Ltd. | Applera Corporation | Applera Corporation.
20071872 | Istithmar PJSC | Jones Apparel Group, Inc. | Barneys New York, Inc.
20071879 | TreeHouse Foods, Inc. | E.D. Smith Income Fund | E.D. Smith GP Ltd. E.D. Smith & Sons, Limited. E.D. Smith & Sons, L.P.
20071880 | Principal Financial Group, Inc. | Nationwide Mutual Insurance Company | Morley Financial Services, Inc.
20071886 | R.H. Donnelley Corporation | Business.com, Inc. | Business.com, Inc.
20071887 | V.F. Corporation | Lucy Activewear Inc. | Lucy Activewear Inc.
20071888 | P. Morgan McCague | BCE, Inc | BCE, Inc.
20071890 | The Hearst Family Trust | GRP II, L.P. | UGO Networks, Inc.
20071892 | BlackRock, Inc. | Quellos Holdings, LLC | Quellos Group, LLC.
20071896 | Brockway Moran & Partners Fund III, L.P | Steven McLeod | Pacific Crane Maintenance Company, Inc.
20071897 | Brockway Moran & Partners Fund III, L.P | Joseph Gregorio | Pacific Crane Maintenance Company, Inc.
20071898 | Red Sky Holdings L.P. | CCS Income Trust | CCS Inc.
20071901 | Weston Presidio V, L.P. | Summit Energy Services, Inc. | Summit Energy Services, Inc.
20071908 | ev3 Inc | FoxHollow Technologies, Inc. | FoxHollow Technologies, Inc.
20071909 | Carlyle Partners V MC, L.P. | Manor Care, Inc. | Manor Care, Inc.
20071911 | Fidelity National Financial, Inc. | Fidelity National Information Services, Inc | Property Insight, LLC.
20071920 | CHS Private Equity V LP | American Capital Strategies Ltd. | SAV Holdings Inc. Swank Audio Visuals.
20071927 | UST Inc. | Warren and Barbara Winiarski | Rainbowday LLC Stag's Leap Vineyards, L.P. Stag's Leap Wine Cellars.
20071928 | Vista Equity Partners Fund III, L.P | Misys plc | Misys Hospital Systems, Inc.
TRANSACTIONS GRANTED EARLY TERMINATION—08/14/2007
20071847 | Mr. Yiitshak Sharon | Ergon, Inc. | Lion Oil Company.
TRANSACTIONS GRANTED EARLY TERMINATION—08/15/2007
20071910 | TA X L.P | Arnhold and S. Bleichroeder Holdings, Inc | Arnhold and S. Bleichroeder Holdings, Inc.
TRANSACTIONS GRANTED EARLY TERMINATION—08/16/2007
20071824 | S.A.C. Capital International, Ltd. | WCI Communities, Inc. | WCI Communities, Inc.
TRANSACTIONS GRANTED EARLY TERMINATION—08/17/2007
20071337 | Nuance Communications, Inc. | VoiceSignal Technologies, Inc. | VoiceSignal Technologies, Inc.
20071791 | Apax Europe V—A.L.P. | David Martin and Nancy Knowlton | 1329169 Alberta Ltd.
20071926 | Market Dining Holding, LLC. | McDonald's Corporation | Boston Market Corporation.
20071975 | Steven P. Jobs | Apple Inc. | Apple Inc.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. 07-4150 Filed 8-23-07; 8:45 am]

BILLING CODE 6750-01-M